DEPARTMENT OF VETERANS AFFAIRS

[OMB Control No. 2900-NEW]

Agency Information Collection Activity: GI Bill Comparison Tool Ratings Survey

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-NEW.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-NEW” in any correspondence.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: Executive Order 12862; Paperwork Reduction Act of 1995 Section 3507.

Title: GI Bill Comparison Tool Ratings Survey, No Form.

OMB Control Number: 2900-NEW.

Type of Review: New Information Collection.

Abstract: The Comparison Tool Survey submitted for OMB's approval through regular ICR 3-year collection for the Collection of Qualitative Feedback on Agency Service Delivery” is being submitted to Veterans and eligible beneficiaries who recently graduated from college. The sampled customers will be contacted through an invitation email. A link will be enclosed so the survey may be completed using an online interface, with customized customer information. The survey itself consists of a handful of questions revolving around a human-centered design, focusing on such elements as trust, emotion, effective, and ease with the services and educational care they received. The information provided will be used by VA to measure how recent graduates who used the GI Bill feel about the institution they attended, and the education they received. This includes quality of classes, in person versus online learning, GI Bill support (or supportiveness of school certifying officials), degree of support for the Veteran community at the institution, and overall experience. This ICR survey collection will be sent via, email. Without this type of feedback from the Survey, VA will not have timely information to adjust its services to meet customer needs.

An agency may not conduct or sponsor, and a person is not required to respond to a collection of information unless it displays a currently valid OMB control number. The Federal Register Notice with a 60-day comment period soliciting comments on this collection of information was published at 87 FR 113 on June 13, 2022, page 35851.

Affected Public: Individuals and households.

Estimated Annual Burden: 118 hours.

Estimated Average Burden per Respondent: 5 minutes.

Frequency of Response: Twice Annually.

Estimated Number of Respondents: 1416.

By direction of the Secretary.
Maribel Aponte,
VA PRA Clearance Officer, Office of Enterprise and Integration/Data Governance Analytics, Department of Veterans Affairs.

[FR Doc. 2022-17674 Filed 8-16-22; 8:45 am]

BILLING CODE 8320-01-P